DEPARTMENT OF COMMERCE

National Oceanic and Atmospheric Administration

[I.D. 103006C]

Marine Mammals; File No. 373-1868

AGENCY: National Marine Fisheries Service (NMFS), National Oceanic and Atmospheric Administration (NOAA), Commerce.

ACTION: Notice; receipt of application for permit.

SUMMARY: Notice is hereby given that the Point Reyes Bird Observatory (PRBO) Conservation Science (Dr. William J. Sydeman, Responsible Party), 3820 Cypress Drive, # 11 Petaluma, CA 94954 has applied in due form for a permit for scientific research on pinnipeds in California.

DATES: Written, telefaxed, or e-mail comments on the new applications, amendment requests must be received on or before December 6, 2006.

ADDRESSES: The applications and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the relevant document identifier: File No. 373-1868.

FOR FURTHER INFORMATION CONTACT: Amy Sloan or Dr. Tammy Adams, (301)713-2289.

SUPPLEMENTARY INFORMATION: The subject permit is requested under the authority of the Marine Mammal Protection Act of 1972, as amended (16 U.S.C. 1361 et seq.) and the regulations governing the taking and importing of marine mammals (50 CFR part 216).

The PRBO proposes to study and monitor population trends, health, and ecology of pinnipeds in California, specifically at the Farallon Islands, Point Reyes Peninsula, Ano Nuevo Island, San Francisco Bay, and in Sonoma County near the Russian River. Harbor seals (Phoca vitulina richardii) and northern elephant seals (Mirounga angustirostris) are the primary species of study; researchers will also remotely survey California sea lions (Zalophus californianus), Steller sea lions (Eumetopias jubatus), and northern fur seals (Callorhinus ursinus) and their responses to changes in the environment. By monitoring these species, managers will be alerted to changes in the condition of pinniped populations and of the coastal marine ecosystems of central California. Research and monitoring activities will include (1) capture and handling of harbor seals and northern elephant seals in order to dye-mark, attach flipper tags and scientific instruments, and collect tissue samples, (2) surveys and photo-documentation of all species in order to quantify numbers by sex and age class annually and seasonally, and (3) incidental Level B disturbances related to research activities. An estimated maximum of 300 harbor seals and 3,050 elephant seals will be captured or handled per year over a five year period, and an estimated 300 elephant seals, 5,150 harbor seals, 600 California sea lions, and five northern fur seals will be incidentally disturbed during pinniped research operations.

Concurrent with the publication of this notice in the Federal Register, NMFS is forwarding copies of these applications to the Marine Mammal Commission and its Committee of Scientific Advisors.

Dated: October 31, 2006.
P. Michael Payne,
Chief, Permits, Conservation and Education Division, Office of Protected Resources, National Marine Fisheries Service.

[FR Doc. E6-18683 Filed 11-3-06; 8:45 am]

BILLING CODE 3510-22-S